DEPARTMENT OF COMMERCE

Bureau of Economic Analysis

15 CFR Part 801

[Docket No. 0807311000-9272-02 ]

RIN 0691-AA67

International Services Surveys: BE-150, Quarterly Survey of Cross-Border Credit, Debit, and Charge Card Transactions

AGENCY: Bureau of Economic Analysis, Commerce.

ACTION: Final rule.

SUMMARY: This final rule amends regulations of the Bureau of Economic Analysis, Department of Commerce (BEA) to set forth the reporting requirements for a new mandatory survey entitled the BE-150, Quarterly Survey of Cross-Border Credit, Debit, and Charge Card Transactions. The survey will collect from major U.S. credit card companies data on cross-border credit, debit, and charge card transactions between U.S. cardholders traveling abroad and foreign businesses and between foreign cardholders traveling in the United States and U.S. businesses. The BE-150 survey will be conducted on a quarterly basis beginning with the first quarter of 2009.

The BE-150 survey data will be used by BEA in estimating the travel component of the U.S. International Transactions Accounts (ITAs). In constructing the estimates, these data will be used in conjunction with data BEA is collecting separately from U.S. and foreign travelers on the Survey of International Travel Expenditures on the methods these travelers used to pay for their international travel, such as credit, debit, and charge card purchases, cash withdrawals, currency brought from home, and travelers' checks.

DATES: This final rule will be effective May 8, 2009.

FOR FURTHER INFORMATION CONTACT: Chris Emond, Chief, Special Surveys Branch, (BE-50), Balance of Payments Division, Bureau of Economic Analysis, U.S. Department of Commerce, Washington, DC 20230; e-mail christopher.emond@bea.gov; or phone (202) 606-9826.

SUPPLEMENTARY INFORMATION: In the September 18, 2008 Federal Register, 73 FR 54095, BEA published a notice of proposed rulemaking to amend 15 CFR 801.9 to set forth reporting requirements for a new mandatory survey entitled BE-150, Quarterly Survey of Cross-Border Credit, Debit, and Charge Card Transactions. No comments were received on the proposed rule. Thus, the proposed rule is adopted without change.

Description of Changes

The BE-150 survey is a mandatory survey and will be conducted, beginning with transactions for the first quarter of 2009, by BEA under the International Investment and Trade in Services Survey Act (22 U.S.C. 3101-3108), hereinafter, “the Act.” For the initial quarter of coverage, BEA will send the survey to potential respondents in April of 2009; responses will be due by May 30, 2009.

The BE-150 survey will collect from the U.S. credit card companies data covering cross-border credit, debit, and charge card transactions between U.S. cardholders traveling abroad and foreign businesses and between foreign cardholders traveling in the United States and U.S. businesses—by country of the transaction (for U.S. cardholders) or by country of residency of the cardholder (for foreign cardholders). Credit card companies that operate networks used to clear and settle credit card transactions between issuing banks and acquiring banks would be responsible for reporting on this survey. Issuing banks, acquiring banks, and individual cardholders will not be required to report. Data will be collected by the type of transaction, by type of card, by spending category, and by country. Data on credit card transactions of U.S. cardholders traveling abroad and foreign cardholders traveling in the United States will be collected at an aggregate level from the U.S. credit card companies; data on the transactions of individuals will not be collected.

Survey Background

The Bureau of Economic Analysis (BEA), U.S. Department of Commerce, will conduct the survey under the International Investment and Trade in Services Survey Act (22 U.S.C. 3101-3108), hereinafter, “the Act.” Section 4(a) of the Act (22 U.S.C. 3103(a)) provides that the President shall, to the extent he deems necessary and feasible, conduct a regular data collection program to secure current information related to international investment and trade in services and publish for the use of the general public and United States Government agencies periodic, regular, and comprehensive statistical information collected pursuant to this subsection.

In Section 3 of Executive Order 11961, as amended by Executive Orders 12318 and 12518, the President delegated the responsibilities under the Act for performing functions concerning international trade in services to the Secretary of Commerce, who has redelegated them to BEA.

The survey provides a basis for compiling the travel account of the United States international transactions accounts. In constructing the estimates, these data will be used in conjunction with data BEA is collecting separately from U.S. and foreign travelers on the Survey of International Travel Expenditures on the methods these travelers used to pay for international travel expenditures. With the two data sources, BEA will be able to estimate total expenditures by foreign travelers in the United States (U.S. exports) and total expenditures by U.S. travelers abroad (U.S. imports) by country and region.

Executive Order 12866

This final rule has been determined to be not significant for purposes of E.O. 12866.

Executive Order 13132

This final rule does not contain policies with Federalism implications sufficient to warrant preparation of a Federal assessment under E.O. 13132.

Paperwork Reduction Act

The collection-of-information in this final rule has been approved by the Office of Management and Budget (OMB) under control number 0608-0072 pursuant to the requirements of the Paperwork Reduction Act.

Notwithstanding any other provisions of the law, no person is required to respond to, nor shall any person be subject to a penalty for failure to comply with, a collection of information subject to the requirements of the Paperwork Reduction Act unless that collection displays a currently valid Office of Management and Budget Control Number. The collection will display this number.

The BE-150 quarterly survey is expected to result in the filing of reports from four respondents on a quarterly basis, or 16 reports annually. The respondent burden for this collection of information will vary from one respondent to another, but is estimated to average 16 hours per response (64 hours annually), including time for reviewing the instructions, searching existing data sources, gathering and maintaining the data needed, and completing and reviewing the collection of information. Thus, the total respondent burden for the BE-150 survey is estimated at 260 hours.

Written comments regarding the burden-hour estimate or any other aspect of this collection of information contained in this final rule should be sent to (1) the Bureau of Economic Analysis via mail to U.S. Department of Commerce, Bureau of Economic Analysis, Chris Emond, Chief, Special Surveys Branch (BE-50), Washington, DC 20230, via e-mail at christopher.emond@bea.gov, or by FAX at 202-606-5318; and (2) the Office of Management and Budget, O.I.R.A., Paperwork Reduction Project, Attention PRA Desk Officer for BEA, via e-mail at pbugg@omb.eop.gov, or by FAX at 202-395-7245.

Regulatory Flexibility Act

The Chief Counsel for Regulation, Department of Commerce, has certified to the Chief Counsel for Advocacy, Small Business Administration, under provisions of the Regulatory Flexibility Act (5 U.S.C. 605(b)), that this rule will not have a significant economic impact on a substantial number of small entities. The factual basis for this certification was published with the proposed rule. No comments were received regarding the economic impact of this rule. As a result, no final regulatory flexibility analysis was prepared.

List of Subjects in 15 CFR Part 801

International transactions, Economic statistics, Foreign trade, Penalties, Reporting and recordkeeping requirements, Travel expenses, Cross-border transactions, Credit card, and Debit card.

Dated: January 29, 2009.
J. Steven Landefeld,
Director, Bureau of Economic Analysis.

For the reasons set forth in the preamble, BEA amends 15 CFR part 801, as follows:

PART 801—SURVEY OF INTERNATIONAL TRADE IN SERVICES BETWEEN U.S. AND FOREIGN PERSONS

1. The authority citation for 15 CFR part 801 continues to read as follows:

Authority: 5 U.S.C. 301; 15 U.S.C. 4908; 22 U.S.C. 3101-3108; and E.O. 11961, 3 CFR, 1977 Comp., p. 86, as amended by E.O. 12318, 3 CFR, 1981 Comp., p. 173, and E.O. 12518, 3 CFR, 1985 Comp., p. 348.

2. Amend § 801.9 by adding paragraph (c)(7) to read as follows:

§ 801.9 Reports required.

(c) Quarterly surveys. * * *

(7) BE-150, Quarterly Survey of Cross-Border Credit, Debit, and Charge Card Transactions:

(i) A BE-150, Quarterly Survey of Cross-Border Credit, Debit, and Charge Card Transactions will be conducted covering the first quarter of the 2009 calendar year and every quarter thereafter.

(A) Who must report. A BE-150 report is required from each U.S. company that operates networks for clearing and settling credit card transactions made by U.S. cardholders in foreign countries and by foreign cardholders in the United States. Each reporting company must complete all applicable parts of the BE-150 form before transmitting it to BEA. Issuing banks, acquiring banks, and individual cardholders are not required to report.

(B) Covered Transactions. The BE-150 survey collects aggregate information on the use of credit, debit, and charge cards by U.S. cardholders when traveling abroad and foreign cardholders when traveling in the United States. Data are collected by the type of transaction, by type of card, by spending category, and by country.

(ii) [Reserved]

[FR Doc. E9-7987 Filed 4-7-09; 8:45 am]

BILLING CODE 3510-06-P